DEPARTMENT OF JUSTICE

Notice of Lodging of Proposed Consent Decree Under the Clean Air Act

On July 16, 2014, the Department of Justice lodged a proposed consent decree with the United States District Court for the District of Minnesota in the lawsuit entitled United States and State of Minnesota by its Minnesota Pollution Control Agency v. Allete, Inc. d/b/a Minnesota Power, Civil Action No. 0:14-cv-2911-ADM-LIB.

The United States and the State of Minnesota by its Minnesota Pollution Control Agency, filed this lawsuit under the Clean Air Act. The United States' and the State's complaint seeks injunctive relief and civil penalties for violations of the New Source Review (NSR) and Title V provisions of the Clean Air Act, at the defendant's Boswell and Laskin coal-fired power plants located, respectively, in Cohasset and Hoyt Lakes, Minnesota. The consent decree requires Minnesota Power to perform injunctive relief to reduce sulfur dioxide, nitrogen oxides, and particulate matter emissions at these plants, as well as at Minnesota Power's Taconite Harbor Energy coal-fired power plant in Schroeder, Minnesota, and at Minnesota Power's Rapids Energy coal and biomass-fired plant in Grand Rapids, Minnesota. The emission reductions will be achieved through a combination of pollution controls, unit retirements, refueling or repowering, and emission caps. The consent decree also requires Minnesota Power to spend at least $4.2 million on environmentally beneficial projects to mitigate the adverse effects of the past emissions alleged to have been illegal, and to pay a $1.4 million civil penalty. The consent decree would resolve NSR and related Title V and New Source Performance Standards (NSPS) claims for past violations at the plants.

The publication of this notice opens a period for public comment on the consent decree. Comments should be addressed to the Assistant Attorney General, Environment and Natural Resources Division, and should refer to United States and State of Minnesota. v. Allete, Inc. d/b/a Minnesota Power, D.J. Ref. No. 90-5-2-1-09683. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $26.75 (25 cents per page reproduction cost) payable to the United States Treasury.

Karen S. Dworkin,
Assistant Section Chief, Environmental Enforcement Section, Environment and Natural Resources Division.

[FR Doc. 2014-17127 Filed 7-21-14; 8:45 am]

BILLING CODE 4410-15-P